OFFICE OF PERSONNEL MANAGEMENT

5 CFR Part 330

RIN 3206-AF36

Full Consideration of Displaced Defense Employees

AGENCY: U.S. Office of Personnel Management.

ACTION: Final regulation.

SUMMARY: The Office of Personnel Management (OPM) is issuing a final rule to remove the regulations regarding full consideration of displaced Department of Defense employees because the implementing statute has expired and the program has been superseded.

EFFECTIVE DATE: This regulation is effective on May 19, 2000.

FOR FURTHER INFORMATION CONTACT: Jacqueline Yeatman on (202) 606-0960, FAX (202) 606-2329, TDD (202) 606-0023 or by email at jryeatma@opm.gov.

SUPPLEMENTARY INFORMATION: The regulations at 5 CFR part 330 subpart I were published April 9, 1993, implementing section 4432 of the National Defense Authorization Act for Fiscal Year 1993 (Pub. L. 102-484). The statute provided up to 2 years of full consideration in non-Defense jobs for Department of Defense employees who were separated by reduction in force between October 23, 1991 and September 30, 1997. This section of Public Law 102-484 preceded the regulations at 5 CFR part 330 Subpart G, which in 1996 established the Interagency Career Transition Assistance Plan (ICTAP). DOD employees separated by reduction in force are currently eligible for ICTAP selection priority for vacancies in non-Defense agencies under those regulations. Because this section of the Public Law has expired and been superseded by the ICTAP, OPM is deleting the current material in part 330 (subpart I) and reserving this subpart for future use.

Regulatory Flexibility Act

I certify that this regulation will not have a significant economic impact on a substantial number of small entities because it affects only Federal employees.

Executive Order 12866, Regulatory Review

This rule has been reviewed by the Office of Management and Budget in accordance with Executive Order 12866.

List of Subjects in 5 CFR Part 330

Armed forces reserves, Government employees.

Office of Personnel Management.
Janice R. Lachance,
Director.

Accordingly, the Office of Personnel Management is amending 5 CFR part 330 as follows:

PART 330—RECRUITMENT, SELECTION, AND PLACEMENT (GENERAL)

1. The authority citation for part 330 is revised to read as follows:

Authority: 5 U.S.C. 1302, 3301, 3302; E.O. 10577, 3 CFR 1954-58 Comp., p. 218; § 330.102 also issued under 5 U.S.C. 3327; subpart B also issued under 5 U.S.C. 3315 and 8151; § 330.401 also issued under 5 U.S.C. 3310; subpart H also issued under 5 U.S.C. 8337(h) and 8457(b); subpart K also issued under sec. 11203 of Pub. Law 105-33.

Subpart I—[Reserved]

2. In part 330, subpart I consisting of § 330.901 through § 330.903, is removed and reserved.

[FR Doc. 00-9727 Filed 4-18-00; 8:45 am]

BILLING CODE 6325-01-P